DEPARTMENT OF THE INTERIOR

Bureau of Land Management

[19XL1109AF-LLUT922300-L13200000-EL0000, UTU-81895 24-1A]

Notice of Federal Competitive Coal Lease Sale, Alton Coal Tract, Utah (Coal Lease Application UTU-81895)

AGENCY: Bureau of Land Management, Interior.

ACTION: Notice.

SUMMARY: Notice is hereby given that the coal resources, in the lands described below, in Kane County, Utah, will be offered for competitive sale, by sealed bid, in accordance with the Mineral Leasing Act of 1920, as amended.

DATES: The lease sale will be held at 1:00 p.m. on November 28, 2018. Sealed bids must be received by the Bureau of Land Management (BLM) Utah State Office Public Room on or before 10 a.m. on November 28, 2018.

ADDRESSES: The lease sale will be held at the BLM Utah State Office, 440 West 200 South, Suite 500, Salt Lake City, Utah 84101-1345.

Sealed bids must be submitted to the Public Room, BLM Utah State Office, same address.

FOR FURTHER INFORMATION CONTACT: Contact Jeff McKenzie, 440 West 200 South, Suite 500, Salt Lake City, Utah 84101-1345 or telephone 801-539-4038. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: This sale is being held in response to a Lease by Application (LBA) filed by Alton Coal Company LLC. These lands are located in Kane County, Utah, southwest of Alton, Utah. The Federal coal resources to be offered are located in the following described lands:

T. 39 S., R. 5 W., SLM

Sec. 7, SE1/4SW1/4, S1/2SE1/4;

Sec. 18, lots 3 and 4, E1/2, E1/2NW1/4, E1/2SW1/4;

Sec. 19, lots 1 to 4, NE1/4, E1/2NW1/4, E1/2SW1/4, N1/2SE1/2, SE1/4SE1/4;

Sec. 20, lots 4 and 5, N1/2SW1/4.

T. 39 S., R. 6 W., SLM

Sec. 13, SE1/4;

Sec. 24, NE1/4, N1/2NW1/4, SE1/4NW1/4, E1/2SW1/4, N1/2SE1/4, SE1/4SE1/4;

Sec. 25, NE1/4NE1/4.

The area described contains 2,108.71 acres.

The coal in the Alton Tract has one minable coal bed, which is designated as the Smirl seam. This seam is approximately 17 feet thick. The coal bed contains approximately 30.8 million tons of recoverable subbituminous B/High-volatile C bituminous coal. The coal quality in the Smirl coal bed is: 10,120 Btu/lb., 14.79 percent moisture, 7.59 percent ash, 33.68 percent volatile matter, 41.95 percent fixed carbon, and 1.11 percent sulfur.

The tract will be leased to the qualified bidder, of the highest cash amount provided,that the high bid meets or exceeds the BLM's estimate of the Fair Market Value (FMV) of the tract. The minimum bid for the tract is $100 per acre or fraction thereof. The minimum bid is not intended to represent FMV. The authorized officer will determine if the bids meet FMV after the sale.

The sealed bids should be sent by certified mail, return receipt requested, or be hand delivered to the Public Room, BLM Utah State Office, at the address provided in the ADDRESSES section and clearly marked “Sealed Bid for UTU-81895 Coal Sale—Not to be opened before 1:00 p.m. November 28, 2018.” The Public Room will issue a receipt for each hand-delivered bid. Bids received after 10 a.m. will not be considered. If identical high bids are received, the tying high bidders will be requested to submit follow-up sealed bids until a high bid is received. All tie-breaking sealed bids must be submitted within 15 minutes following the sale official's announcement, at the sale, that identical high bids have been received. A lease issued as a result of this offering will require payment of an annual rental of $3 per acre, or fraction thereof, and a royalty payable to the United States of 12.5 percent of the value of coal mined by surface methods and eight percent by underground methods. Bidding instructions for the tract offered and the terms and conditions of the proposed coal lease are included in the Detailed Statement of Lease Sale. Copies of the statement and the proposed coal lease are available at the Utah State Office. Casefile UTU-81895 is also available for public inspection at the Utah State Office.

(Authority: 43 CFR 3422.3-2)

Edwin L. Roberson,
State Director.

[FR Doc. 2018-25083 Filed 11-15-18; 8:45 am]

BILLING CODE 4310-DQ-P